DEPARTMENT OF AGRICULTURE

Rural Utilities Service

[Docket No. RUS-22-Telecom-0010]

Rural eConnectivity Program, Correction

AGENCY: Rural Utilities Service, USDA.

ACTION: Notice; correction.

SUMMARY: The Rural Utilities Service (the Agency) published a Funding Opportunity Announcement (FOA) in the Federal Register of August 4, 2022, entitled Rural eConnectivity Program (ReConnect Program) to announce that it was accepting a second round of applications for fiscal year 2022 (FY 22) utilizing funding provided under the Infrastructure and Investment Jobs Act. In addition, the FOA defined requirements that are determined at the time a funding announcement is published, as outlined in the regulation.

FOR FURTHER INFORMATION CONTACT: For general inquiries regarding the ReConnect Program, contact Laurel Leverrier, Assistant Administrator, Telecommunications Program, Rural Utilities Service, U.S. Department of Agriculture (USDA), email laurel.leverrier@usda.gov, telephone: (202) 720-9554.

For inquiries regarding eligibility concerns, please contact the ReConnect Program Staff at https://www.usda.gov/reconnect/contact-us.

SUPPLEMENTARY INFORMATION:

Correction

In FR Doc. 2022-16694 of August 4, 2022, in FR Doc #2022-16694, (87 FR 47690), the Congressional Review Act section is being updated to amend the date by which application selections will not begin until the date is passed.

On page 47695, in column 3, under Section I.2. the Congressional Review Act section should read as follows:

2. Congressional Review Act. Pursuant to Subtitle E of the Small Business Regulatory Enforcement Fairness Act of 1996 (also known as the Congressional Review Act or CRA), 5 U.S.C. 801 et seq., the Office of Information and Regulatory Affairs in the Office of Management and Budget designated this action as a major rule as defined by 5 U.S.C. 804(2), because it is likely to result in an annual effect on the economy of $100,000,000 or more. Accordingly, there is a 60-day delay in the effective date of this action. Application selection will not begin until after October 9, 2022. Therefore, the 60-day delay required by the CRA is not expected to have a material impact upon the administration and/or implementation of the ReConnect Program.

Christopher A. McLean,
Acting Administrator, Rural Utilities Service.

[FR Doc. 2022-21534 Filed 10-4-22; 8:45 am]

BILLING CODE 3410-15-P